DEPARTMENT OF COMMERCE

Foreign-Trade Zones Board

[Docket 58-2008]

Foreign-Trade Zone 163 - Ponce, Puerto Rico, Application for Expansion

Correction

The Federal Register notice published on October 17, 2008 (73 FR 61780) describing the application by CODEZOL, C.D., grantee of FTZ 163, requesting authority to expand the zone to include an additional site in Ponce is corrected as follows:

In paragraph 4, line 3, the correct address for proposed Site 10 is Road 506 and Road 14, Coto Laurel Ward, Ponce, Puerto Rico.

Dated: October 28, 2008.
Andrew McGilvray,
Executive Secretary.

[FR Doc. E8-26285 Filed 11-3-08; 8:45 am]

BILLING CODE 3510-DS-S